POSTAL SERVICE

39 CFR Part 111

Stamped Mail

AGENCY: Postal Service™.

ACTION: Final rule.

SUMMARY: The Postal Service is amending Mailing Standards of the United States Postal Service, Domestic Mail Manual (DMM®) in various sections to revise the previously adopted provision for stamped mail weighing more than 13 ounces and extend that provision to physical characteristics.

DATES: Effective: October 1, 2019.

FOR FURTHER INFORMATION CONTACT: L'Tisha Slagle at (202) 268-6271, or Garry Rodriguez at (202) 268-7281.

SUPPLEMENTARY INFORMATION: The Postal Service published a final rule on October 9, 2009, (74 FR 52147-52148) announcing restrictions on the mailing of pieces weighing over 13 ounces bearing only postage stamps as the postage payment method.

To enhance the safety and security of Postal Service employees and customers, the Postal Service is now updating the Aviation Security Program, also known as the Anonymous Mail Program, to restrict the method of deposit for all mailpieces bearing stamps as the only postage payment method that weigh more than 10 ounces or that measure more than one half inch in thickness. Under the revised standards set forth below, domestic and international mailpieces that weigh more than 10 ounces or measure more than one half inch in thickness and bear only postage stamps as the postage payment method, may not be deposited into collection receptacles, including street, lobby, and apartment boxes, or other unattended locations. These stamped mailpieces also may not be picked up by a city, rural, or highway contract letter carrier for delivery, or through Pickup on Demand® service. Instead, mailpieces that bear only stamps as the postage payment method and that weigh more than 10 ounces or measure more than one half inch in thickness, must be presented by the sender at a Post Office® location.

For most consumers and businesses, there should be little impact. These restrictions do not apply to any mailpiece that weighs 10 ounces or less and measures one half inch or less in thickness, nor do they affect any mailpieces, regardless of weight or thickness, for which postage is paid with a method other than stamps, such as a postage evidencing system (meter or PC Postage®) or a permit imprint. Customers also will retain the opportunity to obtain a full range of mailing services at their local post offices. In view of these factors, and because of the need to act expeditiously to protect the safety and security of the public, customers, postal employees, and the mail, the Postal Service has determined that the notice and public comment procedure on this change would be impracticable and inconsistent with the public interest, and that this change should take effect as quickly as possible.

In addition, the Postal Service will update Mailing Standards of the United States Postal Service, International Mail Manual (IMM®), Hazardous, Restricted, and Perishable Mail, Publication 52, and applicable Quick Service Guides (QSGs) under separate cover.

For the above reasons, the Postal Service adopts the following changes to Mailing Standards of the United States Postal Service, Domestic Mail Manual (DMM), incorporated by reference in the Code of Federal Regulations. See 39 CFR 111.1. We will publish an appropriate amendment to 39 CFR part 111 to reflect these changes.

Accordingly, 39 CFR part 111 is amended as follows:

List of Subjects in 39 CFR Part 111

Administrative practice and procedure, Postal Service.

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

100 Retail Mail Letters, Cards, Flats, and Parcels

* * * * *

110 Priority Mail Express

* * * * *

116 Deposit

1.0 Priority Mail Express 1-Day and 2-Day Delivery

Retail Priority Mail Express must be deposited as follows:

* * * * *

[Revise the text of item a to read as follows:]

a. Except as provided in 1.0b, items may be deposited at a Post Office location, deposited in a Priority Mail Express collection box, picked up during the normal delivery and collection of mail, or through Pickup on Demand service.

[Revise the first sentence of item b to read as follows:]

b. Items bearing only postage stamps as postage payment and that weigh more than 10 ounces, or measure more than ½-inch in thickness, may not be deposited into a Priority Mail Express collection box, picked up during the normal delivery and collection of mail, or through Pickup on Demand service. * * *

* * * * *

120 Priority Mail

* * * * *

126 Deposit

1.0 Deposit

[Revise the heading and first sentence of 1.1 to read as follows:]

1.1 Pieces Weighing 10 Ounces or Less and One Half Inch in or Less in Thickness

Priority Mail pieces that weigh 10 ounces or less and measure ½-inch or less in thickness, may be deposited into any collection box, mail chute, or mail receptacle or at any place where mail is accepted if the full required postage is paid with postage stamps. * * *

[Revise the heading and first sentence of 1.2 to read as follows:]

1.2 Pieces Weighing More Than 10 Ounces or More Than One Half Inch in Thickness

Priority Mail pieces bearing only postage stamps as postage payment and that weigh more than 10 ounces or measure more than ½-inch in thickness, may not be deposited into a collection box, Postal Service lobby drop, Postal Service dock, customer mailbox, or other unattended location. * * *

* * * * *

130 Retail Mail First-Class Mail and First-Class Package Service—Retail

* * * * *

136 Deposit

1.0 Deposit for First-Class Mail and First-Class Package Service—Retail

[Revise the text of 1.0 to read as follows:]

Retail First-Class Mail (letters, cards, flats) and First-Class Package Service—Retail items must be deposited as follows:

a. Except as provided in 1.0b, items may be deposited into any collection box, mail receptacle, or at any place where mail is accepted if the full required postage is paid with postage stamps.

b. Items bearing only postage stamps as postage payment and that weigh more than 10 ounces, or measure more than ½-inch in thickness, may not be deposited into any collection box, picked up during the normal delivery and collection of mail, or through Pickup on Demand service. The sender must present such items to an employee at a Post Office location. Improperly presented items will be returned to the sender for proper deposit.

* * * * *

150 Retail Mail USPS Retail Ground

* * * * *

156 Deposit

1.0 Deposit for USPS Retail Ground

* * * * *

[Revise the heading and first sentence of 1.3 to read as follows:]

1.3 Stamped Pieces Over 10 Ounces or More Than One Half Inch in Thickness

USPS Retail Ground pieces bearing only postage stamps as postage payment and that weigh more than 10 ounces, or measure more than ½-inch in thickness, may not be deposited into a collection box, Postal Service lobby drop, Postal Service dock, customer mailbox, or other unattended location. * * *

* * * * *

170 Retail Mail Media Mail and Library Mail

* * * * *

176 Deposit and Entry

1.0 Deposit for Media Mail and Library Mail

* * * * *

[Revise the heading and first sentence of 1.2 to read as follows:]

1.2 Stamped Pieces Over 10 Ounces or More Than One Half Inch in Thickness

Media Mail and Library Mail pieces bearing only postage stamps as postage payment and that weigh more than 10 ounces, or measure more than ½-inch in thickness, may not receive pickup service nor be deposited into a collection box, Postal Service lobby drop, Postal Service dock, customer mailbox, or other unattended location. * * *

* * * * *

500 Additional Services

* * * * *

507 Mailer Services

* * * * *

7.0 Pickup on Demand Service

* * * * *

7.2 Basic Standards

* * * * *

[Revise the heading and text of 7.2.2 to read as follows:]

7.2.2 Stamped Pieces Over 10 Ounces or More Than One Half Inch in Thickness

Mailpieces bearing only postage stamps as postage payment and that weigh more than 10 ounces, or measure more than ½-inch in thickness, cannot be picked up by letter carriers and must be presented to an employee at a retail service counter at a Post Office location.

* * * * *

700 Special Standards

703 Nonprofit USPS Marketing Mail and Other Unique Eligibility

* * * * *

2.0 Overseas Military and Diplomatic Post Office Mail

* * * * *

2.6 Priority Mail Express Military Service (PMEMS)

* * * * *

2.6.9 Deposit

PMEMS must be deposited as follows:

* * * * *

[Revise the text of item a to read as follows:]

a. Except as provided in 2.6.9b, items may be deposited at a Post Office location, deposited in a Priority Mail Express collection box, picked up during the normal delivery and collection of mail, or picked up by Pickup on Demand service.

[Revise the first sentence of item b to read as follows:]

b. Items bearing only postage stamps as postage payment and that weigh more than 10 ounces, or measure more than ½-inch in thickness, may not be deposited into a Priority Mail Express collection box, picked up during the normal delivery and collection of mail, or through Pickup on Demand service. * * *

* * * * *

Ruth B. Stevenson,
Attorney, Federal Compliance.

[FR Doc. 2019-20950 Filed 9-30-19; 8:45 am]

BILLING CODE 7710-12-P